DEPARTMENT OF DEFENSE

Department of the Army

Army Science Board Plenary Meeting

AGENCY: Department of the Army, DoD.

ACTION: Notice of open meeting.

SUMMARY: Pursuant to the Federal Advisory Committee Act of 1972 (5 U.S.C., Appendix, as amended), the Sunshine in the Government Act of 1976 (U.S.C. 552b, as amended) and 41 Code of the Federal Regulations (CFR 102-3.140 through 160), the Department of the Army announces the following committee meeting:

Name of Committee: Army Science Board (ASB).

Date(s) of Meeting: July 13-23, 2009.

Time(s) of Meeting:

0800-1700, July 13, 2009.

0800-1700, July 14, 2009.

0800-1700, July 15, 2009.

0800-1700, July 16, 2009.

0800-1700, July 17, 2009.

0800-1700, July 20, 2009.

0800-1700, July 21, 2009.

0800-1700, July 22, 2009.

0800-1400, July 23, 2009.

Location: Beckman Center, 100 Academy, Irvine, CA 92617.

Purpose: The purpose of these meetings is to generate the reports for the 2009 ASB panels—studies (i.e., Persistent CSR, Army Installations 2025, Generation Y Communications, Armed Ground Robotics, and Survivability).

Proposed Agenda:

Monday 13 July:

0800 Kick Off Meeting, schedule, logistics, security and administrative briefings.

1000-1700 members break out into individual panels to generate study report.

Tuesday 14 July:

0800-1700 panels (i.e., Persistent CSR, Army Installations 2025, Generation Communications, Armed Ground Robotics, and Survivability) meet separately.

Wednesday 15 July:

0800-1700 panels meet separately.

Thursday 16 July:

0800-1700 panels meet separately.

Friday 17 July:

0800-1700 panels meet separately.

Monday 20 July:

0800-1700 panels meet separately.

Tuesday 21 July:

0800-1700 panels meet separately.

Wednesday 22 July:

0800-1700 panels meet separately.

Thursday 23 July:

0800-1200 Deliberation and adoption by ASB subcommittee findings and recommendation.

FOR FURTHER INFORMATION CONTACT: For information please contact Mr. Justin Bringhurst at justin.bringhurst@us.army.mil or (703) 604-7468 or Carolyn German at carolyn.t.german@us.army.mil or (703) 604-7490.

SUPPLEMENTARY INFORMATION: None.

Brenda S. Bowen,
Army Federal Register Liaison Officer.

[FR Doc. E9-13439 Filed 6-8-09; 8:45 am]

BILLING CODE 3710-08-P